DEPARTMENT OF COMMERCE

International Trade Administration

[A-533-934]

Hard Empty Capsules From India: Final Affirmative Determination of Sales at Less Than Fair Value

AGENCY: Enforcement and Compliance, International Trade Administration, Department of Commerce.

SUMMARY: The U.S. Department of Commerce (Commerce) determines that imports of hard empty capsules (capsules) from India are being, or are likely to be, sold in the United States at less than fair value (LTFV), as provided in section 735 of the Tariff Act of 1930, as amended (the Act), for the period of investigation (POI) October 1, 2023, to September 30, 2024.

DATES: Applicable December 29, 2025.

FOR FURTHER INFORMATION CONTACT: Joseph Molokwu or Luke Caruso, AD/CVD Operations, Office IV, Enforcement and Compliance, International Trade Administration, U.S. Department of Commerce, 1401 Constitution Avenue NW, Washington, DC 20230; telephone: (202) 482-8043 or (202) 482-2081, respectively.

SUPPLEMENTARY INFORMATION:

Background

On May 29, 2025, Commerce published in the Federal Register its preliminary affirmative determination in the LTFV investigation of capsules from India, in which it also postponed the final determination until October 14, 2025.¹ On September 5, 2025, Commerce issued a post-preliminary analysis memorandum in which it made certain changes to its differential pricing analysis.² We invited interested parties to comment on the Preliminary Determination and changes to the differential pricing analysis.³

¹ See Hard Empty Capsules from India: Preliminary Affirmative Determination of Sales at Less Than Fair Value, Postponement of Final Determination and Extension of Provisional Measures, 90 FR 22699 (May 29, 2025) (Preliminary Determination), and accompanying Preliminary Decision Memorandum (PDM).

² See Memorandum, “Post-Preliminary Analysis for the Affirmative Determination in the Less-Than-Fair-Value Investigation of Hard Empty Capsules from India,” dated September 5, 2025 (Post-Preliminary Analysis).

³ See Memorandum, “Notification of Deadlines for the Submission of Case and Rebuttal Briefs,” dated September 15, 2025.

Due to the lapse in appropriations and Federal Government shutdown, on November 14, 2025, Commerce tolled all deadlines in administrative proceedings by 47 days.⁴ Additionally, due to a backlog of documents that were electronically filed via Enforcement and Compliance's Antidumping and Countervailing Duty Centralized Electronic Service System (ACCESS) during the Federal Government shutdown, on November 24, 2025, Commerce tolled all deadlines in administrative proceedings by an additional 21 days.⁵ Accordingly, the deadline for this final results determination is now December 18, 2025.

⁴ See Memorandum, “Deadlines Affected by the Shutdown of the Federal Government,” dated November 14, 2025.

⁵ See Memorandum, “Tolling of all Case Deadlines,” dated November 24, 2025.

A summary of the events that occurred since Commerce published the Preliminary Determination, as well as a full discussion of the issues raised by parties for this final determination, may be found in the Issues and Decision Memorandum.⁶ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁶ See Memorandum, “Issues and Decision Memorandum for the Final Affirmative Determination in the Less-Than-Fair-Value Investigation of Hard Empty Capsules from India,” dated concurrently with, and hereby adopted by, this notice (Issues and Decision Memorandum).

Scope of the Investigation

The products covered by this investigation are capsules from India. For a complete description of the scope of this investigation, see Appendix I.

Scope Comments

In the Preliminary Scope Memorandum, we set aside a period of time for parties to raise issues regarding product coverage (i.e., scope) in scope-specific case briefs or other written comments.⁷ We received scope case and rebuttal briefs from multiple interested parties. For a summary of the product coverage comments and rebuttal responses submitted to the record for this final determination, and accompanying discussion and analysis of all comments timely received, see the Final Scope Memorandum.⁸ In the Final Scope Memorandum, Commerce determined that it is modifying the scope language as it appeared in the Initiation Notice.⁹ See Appendix I.

⁷ See Memorandum, “Less-Than-Fair-Value and Countervailing Duty Investigations of Hard Empty Capsules from Brazil, the People's Republic of China, India, and the Socialist Republic of Vietnam: Scope Comments Decision Memorandum for the Preliminary Determination,” dated March 24, 2025 (Preliminary Scope Memorandum).

⁸ See Memorandum, “Less-Than-Fair-Value and Countervailing Duty Investigations of Hard Empty Capsules from Brazil, the People's Republic of China, India, and the Socialist Republic of Vietnam: Final Scope Decision Memorandum,” dated concurrently with this notice (Final Scope Memorandum).

⁹ See Hard Empty Capsules From Brazil, the People's Republic of China, India, and the Socialist Republic of Vietnam: Initiation of Less-Than-Fair-Value Investigations, 89 FR 91684 (November 20, 2024) (Initiation Notice).

Verification

Commerce conducted verification of the information relied upon in making its final determination in this investigation, in accordance with section 782(i) of the Act. Specifically, we conducted on-site verifications of the sales and cost information submitted by ACG Associated Capsules Private Limited (ACG India) and HealthCaps India Limited (HIL).¹⁰ We used standard verification procedures, including an examination of relevant sales and accounting records, and original source documents provided by ACG India and HIL.

¹⁰ See Memoranda, “Verification of the Sales and Cost Responses of ACG Associated Capsules Private Limited in the Less Than Fair Value Investigation of Hard Empty Capsules from India,” dated September 15, 2025, “Verification of the Constructed Export Price Sales of ACG Associated Capsules Private Limited's U.S. Affiliate ACG North America LLC in the Less Than Fair Value Investigation of Hard Empty Capsules from India,” dated September 15, 2025, and “Verification of the Sales and Cost Responses of HealthCaps India Limited in the Less Than Fair Value Investigation of Hard Empty Capsules from India,” dated September 15, 2025.

Analysis of Comments Received

All issues raised in the case briefs submitted by interested parties in this investigation are addressed in the Issues and Decision Memorandum. A list of the issues addressed in the Issues and Decision Memorandum is attached to this notice as Appendix II.

Changes Since the Preliminary Determination

We made certain changes to the dumping margin calculations for ACG India and HIL since the Preliminary Determination and Post-Preliminary Analysis. In addition, Commerce has relied on adverse facts available under sections 776(a) of the Act for ACG India. For a discussion of these changes, see the Issues and Decision Memorandum.

All-Others Rate

Section 735(c)(5)(A) of the Act provides that Commerce shall determine an estimated all-others rate for all exporters and producers not individually examined. This rate shall be an amount equal to the weighted average of the estimated weighted-average dumping margins established for exporters and producers individually investigated, excluding any zero and de minimis dumping margins, and any margins determined entirely under section 776 of the Act.

Commerce calculated individual estimated weighted-average dumping margins for ACG India and HIL that are not zero, de minimis, or based entirely on facts otherwise available. Publicly-ranged total U.S. sales values are not available for each of the companies examined in this investigation. Therefore, Commerce calculated the estimated weighted-average dumping margin for all-other producers and exporters using a simple average of the estimated weighted-average dumping margins calculated for the examined respondents.¹¹

¹¹ With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly-ranged U.S. sales values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. Publicly-ranged total U.S. sales values are not available for each of the companies examined in this investigation. Accordingly, we cannot calculate an estimated weighted-average dumping margin based on a weighted-average to consider applying to the non-examined respondents in this investigation. Instead, we have determined to calculate the simple average of the estimated weighted-average dumping margins calculated for the examined companies to the companies not selected for individual examination in this investigation. For a complete analysis of the data, see Memorandum, “Final Determination All-Others Rate Calculation,” dated concurrently with this notice.

Final Determination

Commerce determines that the following estimated weighted-average dumping margins exist:

¹² In the Preliminary Determination, Commerce preliminarily determined that these companies are a single entity. See Preliminary Determination PDM at 4-5; see also Memorandum, “Preliminary Affiliation and Collapsing Analysis Memorandum,” dated April 21, 2025. No parties commented on this determination; thus, we continue to treat these companies as a single entity for purposes of this final determination.

Exporter or producer | Estimated weighted- average dumping margin (percent) | Cash deposit rate (adjusted for subsidy offset(s)) (percent)
ACG Associated Capsules Private Limited; ACG Universal Capsules Private Limited; and Custom Capsules Private Limited ¹² | 26.69 | 19.71
HealthCaps India Limited | 10.66 | 3.68
All Others | 18.68 | 11.70

Disclosure

Commerce intends to disclose the calculations and analysis performed in connection with this final determination to interested parties within five days of any public announcement or, if there is no public announcement, within five days of the date of publication of this notice in the Federal Register, in accordance with 19 CFR 351.224(b).

Suspension of Liquidation and Cash Deposit Requirements

In accordance with section 735(c)(1)(B) of the Act, we instructed U.S. Customs and Border Protection (CBP) to suspend liquidation of all entries of subject merchandise, as described in Appendix I of this notice, which were entered, or withdrawn from warehouse, for consumption on or after May 29, 2025, the date of publication of the Preliminary Determination in the Federal Register. In accordance with section 733(d) of the Act, we instructed CBP to discontinue the suspension of liquidation of all entries of subject merchandise entered or withdrawn from warehouse, on or after November 25, 2025, but to continue the suspension of liquidation of all entries of subject merchandise on or before November 24, 2025.

If the U.S. International Trade Commission (ITC) publishes an affirmative final injury determination, then Commerce will publish an antidumping duty order, reinstate the suspension of liquidation under section 736(a) of the Act, and require a cash deposit of estimated antidumping duties for entries of subject merchandise in the amounts indicated above, in accordance with section 736(a) of the Act. If the ITC determines that material injury, or threat of material injury, does not exist, then this proceeding will be terminated, the suspension of liquidation will be lifted, and all cash deposits for estimated antidumping duties will be refunded.

To determine the cash deposit rate, Commerce normally adjusts the estimated weighted-average dumping margin by the amount of export subsidies countervailed in a companion countervailing duty (CVD) investigation, when CVD provisional measures are in effect. Accordingly, where Commerce made an affirmative determination for countervailable export subsidies, Commerce would offset the estimated weighted-average dumping margins by the appropriate export subsidy rate.¹³ Any such adjusted cash deposit rates may be found in the “Final Determination” section above. If the U.S. International Trade Commission (ITC) makes a final affirmative determination of injury due to both dumping and subsidies, then the cash deposit rate will include the offsets for the export subsidies collected as part of the CVD final determination.

¹³ See Preliminary Determination PDM at 18.

ITC Notification

In accordance with section 735(d) of the Act, Commerce will notify ITC of its final affirmative determination of sales at LTFV. Because Commerce's final determination is affirmative, in accordance with section 735(b)(2) of the Act, the ITC will make its final determination as to whether the domestic industry in the United States is materially injured, or threatened with material injury, by reason of imports or sales (or the likelihood of sales) of capsules for importation from India no later than 45 days after this final determination. If the ITC determines that such injury does not exist, then this proceeding will be terminated, all cash deposits posted will be refunded, and suspension of liquidation will be lifted. If the ITC determines that such injury does exist, then Commerce will issue an antidumping duty order directing CBP to assess, upon further instruction by Commerce, antidumping duties on all imports of the subject merchandise entered, or withdrawn from warehouse, for consumption on or after the effective date of the suspension of liquidation, as discussed in the ” Suspension of Liquidation and Cash Deposit Requirements” section above.

Administrative Protective Order (APO)

This notice serves as the only reminder to parties subject to an APO of their responsibility concerning the disposition of proprietary information disclosed under the APO in accordance with 19 CFR 351.305(a)(3). Timely written notification of the return or destruction of APO materials or conversion to judicial protective order is hereby requested. Failure to comply with the regulations and terms of an APO is a sanctionable violation.

Notification to Interested Parties

This final determination and notice are issued and published in accordance with sections 735(d) and 777(i) of the Act, and 19 CFR 351.210(c).

Dated: December 18, 2025.
Christopher Abbott,
Deputy Assistant Secretary for Policy and Negotiations, performing the non-exclusive functions and duties of the Assistant Secretary for Enforcement and Compliance.

Appendix I

Scope of the Investigation

The merchandise subject to the scope of this investigation is hard empty capsules, which are comprised of two prefabricated, hollowed cylindrical sections (cap and body). The cap and body pieces each have one closed and rounded end and one open end, and are constructed with different or equal diameters at their open ends.

Hard empty capsules are unfilled cylindrical shells composed of at least 80 percent by weight of a water soluble polymer that is considered non-toxic and appropriate for human or animal consumption by the United States Pharmacopeia—National Formulary (USP-NF), Food Chemical Codex (FCC), or equivalent standards. The most common polymer materials in hard empty capsules are gelatin derived from animal collagen (including, but not limited to, pig, cow, or fish collagen), hydroxypropyl methylcellulose (HPMC), and pullulan.

Hard empty capsules may also contain water and additives, such as opacifiers, colorants, processing aids, controlled release agents, plasticizers, and preservatives. Hard empty capsules may also be imprinted or otherwise decorated with markings.

Hard empty capsules are covered by the scope of these investigations regardless of polymer material, additives, transparency, opacity, color, imprinting, or other markings.

Hard empty capsules are also covered by the scope of these investigations regardless of their size, weight, length, diameter, thickness, and filling capacity.

Cap and body pieces of hard empty capsules are covered by the scope of these investigations regardless of whether they are imported together or separately, and regardless of whether they are imported in attached or detached form.

Hard empty capsules covered by the scope of these investigations are those that disintegrate in water, simulated intestinal fluid, simulated gastric fluid, or other similar water-based (i.e., aqueous) fluids within 2 hours under tests specified in Chapter 701 of the USP-NF, or equivalent disintegration tests.

Hard empty capsules are classifiable under subheadings 9602.00.1040 and 9602.00.5010 of the Harmonized Tariff Schedule of the United States (HTSUS). In addition, hard empty capsules may be imported under HTSUS subheading 1905.90.9090; gelatin hard empty capsules may be imported under HTSUS subheading 3503.00.5510; HPMC hard empty capsules may be imported under HTSUS subheading 3923.90.0080; and pullulan hard empty capsules may be imported under HTSUS subheading 2106.90.9998. Although the HTSUS subheadings are provided for convenience and customs purposes, the written description of the merchandise covered by these investigations is dispositive.

Appendix II

List of Topics Discussed in the Issues and Decision Memorandum

I. Summary

II. Background

III. Changes Since the Preliminary Determination

IV. Discussion of the Issues

Comment 1: Whether Commerce Should Correct Certain Errors in Its Calculation of ACG's Estimated Weighted-Average Dumping Margin

Comment 2: Whether Commerce Should Apply Adverse Facts Available (AFA) in Calculating ACG's Final Estimated Weighted-Average Dumping Margin

Comment 3: Whether Commerce Improperly Rejected ACG North America LLC (ACG NA)'s Minor Correction of the Reported U.S. Duty Expenses

Comment 4: Whether Commerce Should Apply AFA in Calculating HIL's Inland Freight from Warehouse to Customer Expenses

Comment 5: Whether Commerce Has a Statutory Basis to Depart from the Average-to-Average (A-to-A) Comparison Method

V. Recommendation

[FR Doc. 2025-23826 Filed 12-23-25; 8:45 am]

BILLING CODE 3510-DS-P